DEPARTMENT OF COMMERCE

National Oceanic and Atmospheric Administration

Agency Information Collection Activities; Submission to the Office of Management and Budget (OMB) for Review and Approval; Comment Request; Southeast Region Individual Fishing Quota Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 24, 2020, during a 60-day comment period. This notice allows for an additional 30 days for public comments.

Agency: National Oceanic & Atmospheric Administration.

Title: Southeast Region Individual Fishing Quota Programs.

OMB Control Number: 0648-0551.

Form Number(s): None.

Type of Request: Regular submission (Revision of a currently approved collection).

Number of Respondents: 1,164.

Average Hours Per Response:

• Transfer Shares, 3 minutes

• Share Receipt, 2 minutes

• Account Update, 2 minutes

• Trip Ticket Update, 2 minutes

• Transfer Allocation, 3 minutes

• Landing Transaction Correction Request, 5 minutes

• Dealer Cost Recovery Fee Submission through pay.gov, 3 minutes

• Commercial Reef Fish Landing Location Request, 5 minutes

• Dealer Landing Transaction Report, 6 minutes (electronic form)

• Dealer Landing Transaction Report, 5 minutes (paper form, catastrophic conditions only)

• IFQ Notification of Landing, 5 minutes

• Gulf Reef Fish Notification of Landing, 3 minutes

• IFQ Close Account, 3 minutes

• IFQ Online Account Renewal Application, 10 minutes

• Wreckfish Quota Share Transfer, 20 minutes

Total Annual Burden Hours: 2,397.

Needs and Uses: The NMFS Southeast Regional Office manages three commercial IFQ and individual transferable quota (ITQ) programs in the Southeast Region under the authority of the Magnuson-Stevens Fishery Conservation and Management Act (Magnuson-Stevens Act), 16 U.S.C. 1801 et seq. The IFQ programs for red snapper, and groupers and tilefishes occur in Federal waters of the Gulf of Mexico (Gulf), and the ITQ program for wreckfish occurs in Federal waters of the South Atlantic.

The NMFS Southeast Regional Office proposes to revise parts of the information collection approved under OMB Control Number 0648-0551. This collection of information tracks the transfer and use of IFQ and ITQ shares, and IFQ allocation and landings necessary to operate, administer, and review management of the IFQ and ITQ programs. Regulations for the IFQ and ITQ programs are located at 50 CFR part 622.

For the Gulf IFQ Programs, the revisions would modify pages within the Catch Share Online System. The Transfer Shares page allows IFQ shareholders to transfer shares online to other IFQ shareholders. Similarly, the Transfer Allocation page allows IFQ shareholders to transfer allocation online to other IFQ shareholders. Beginning in 2020, IFQ shareholders can use IFQ shares as collateral in the Federal Fisheries Finance Program to obtain a loan that can be used for fishing related expenses. However, to accommodate the finance program, the Transfer Shares and Transfer Allocation pages must be modified to allow IFQ shareholders to indicate if their shares are being held as part of a lien. The Landing Transaction page allows IFQ dealers to submit landing transactions online to record landings of IFQ species. NMFS would revise the Landing Transaction page to allow for better data collection and monitoring of landings in conjunction with the NMFS Southeast Fisheries Science Center.

If implemented by NMFS, these administrative revisions would not change the estimated time or cost per response. NMFS estimates that it would still require approximately 3 minutes to complete the Transfer Shares or Transfer Allocation pages per occurrence, and 6 minutes to complete the Landing Transaction page per occurrence.

Affected Public: Individuals or households; Business or other for-profit organizations.

Frequency: Annual and periodic.

Respondent's Obligation: Mandatory.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0551.

Sheleen Dumas,
Department PRA Clearance Officer, Office of the Chief Information Officer, Commerce Department.

[FR Doc. 2020-10468 Filed 5-14-20; 8:45 am]

BILLING CODE 3510-22-P